DEPARTMENT OF AGRICULTURE

Submission for OMB Review; Comment Request

June 28, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Imported Seed and Screening.

OMB Control Number: 0579-0124.

Summary of Collection: The United States Department of Agriculture (USDA) is responsible for preventing plant diseases or insect pests from entering the United States, preventing the spread of pests not widely distributed in the United States, and eradicating those imported pest when eradication is feasible. The Plant Quarantine Act and the Federal Plant Pest Act authorizes the Department to carry out this mission. Under the authority of the Federal Seed Act of 1939, as amended, the USDA regulates the importation and interstate movement of certain agricultural and vegetable seeds. The Plant Protection & Quarantine Division of USDA's Animal & Plant Health Inspection Service (APHIS) has established a seed analysis program with Canada that allows U.S. companies that import seed for cleaning or processing to enter into compliance agreements with APHIS. This program eliminates the need for sampling shipments of Canadian-origin seed at the border, and allows certain seed importers to clean seed without the direct supervision of an APHIS inspector. APHIS will collect information using forms PPQ 925, Seed Analysis Certificate and PPQ 519, Compliance Agreement.

Need and Use of the Information: APHIS will collect information from PPQ 925 and PPQ 519 to ensure that imported seeds do not pose a health threat to U.S. agriculture. If the information were not collected there would be no way of preventing noxious weeds from entering the United States.

Description of Respondents: Business or other for-profit.

Number of Respondents: 1,168.

Frequency of Responses: Recordkeeping: Reporting: On occasion.

Total Burden Hours: 9,576.

Animal and Plant Health Inspection Service

Title: Importation of Artificially Dwarfed Plants.

OMB Control Number: 0579-0176.

Summary of Collection: Under the Plant Protection Act (7 U.S.C. 7701-7772), the Secretary of Agriculture is authorized to prohibit or restrict the importation, entry or movement of plants and plant pests, to prevent the introduction of plant pests into the United States or their dissemination within the United States. The Plant Protection and Quarantine, a unit within USDA's Animal and Plant Health Inspection Service (APHIS), enforce these regulations. Artificially dwarfed plants imported into the United States must be accompanied by a phytosanitary certificate of inspection issued by a plant health official employed by the government of the country from which the plants are exported.

Need and Use of the Information: APHIS will collect information from the phytosanitary certificate to state that the plants were: (1) Grown for at least 2 years in a nursery that is registered with the government of the country of export; (2) grown in pots containing only sterile growing media; (3) grown on benches at least 50 cm above the ground; and (4) inspected at least once each year by the plant protection service of the country of export. The collected information will enable PPQ to verify that the imported plants were grown under conditions that help keep the plants free from infestation by certain longhorned beetles and other pests. Without the information APHIS could not verify that imported nursery stock does not present significant risk of introducing plant pests and plant diseases into the United States.

Description of Respondents: Business or other for-profit; Farms; State, Local or Tribal Government; Individuals or households.

Number of Respondents: 30.

Frequency of Responses: Reporting; On occasion.

Total Burden Hours: 38.

Ruth Brown,
Departmental Information Collection Clearance Officer.

[FR Doc. E7-12962 Filed 7-3-07; 8:45 am]

BILLING CODE 3410-34-P